DEPARTMENT OF ENERGY

Federal Energy Regulatory Commission

Combined Notice of Filings #1

Take notice that the Commission received the following electric corporate filings:

Docket Numbers: EC19-100-000.

Applicants: Tucson Electric Power Company.

Description: Informational Filing [copy of executed confirmations and unaffiliated third party] of Tucson Electric Power Company.

Filed Date: 12/23/19.

Accession Number: 20191223-5333.

Comments Due: 5 p.m. ET 1/13/20.

Take notice that the Commission received the following electric rate filings:

Docket Numbers: ER10-2822-017; ER16-1250-009; ER10-2828-006; ER10-2285-007; ER17-1241-001; ER16-2285-004; ER10-2423-009; ER10-2404-009; ER10-2812-015; ER10-1291-022; ER10-2843-014; ER12-2649-005; ER10-1725-005; ER10-3001-006; ER10-3002-006; ER10-3004-007; ER12-422-007; ER10-2301-005; ER19-2361-001; ER10-3010-006; ER10-2306-005; ER12-96-009; ER10-3031-006; ER10-3160-004; ER16-1637-003.

Applicants: Atlantic Renewable Projects II LLC, Avangrid Renewables, LLC, Casselman Windpower LLC, Central Maine Power Company, Deerfield Wind, LLC, Desert Wind Farm LLC, Flat Rock Windpower LLC, Flat Rock Windpower II LLC, GenConn Devon LLC, GenConn Energy LLC, GenConn Middletown LLC, Groton Wind, LLC, Hardscrabble Wind Power LLC, Lempster Wind, LLC, Locust Ridge Wind Farm, LLC, Locust Ridge II, LLC, New England Wind, LLC, New York State Electric & Gas Corporation, Otter Creek Wind Farm LLC, Providence Heights Wind, LLC, Rochester Gas and Electric Corporation, South Chestnut LLC, Streator-Cayuga Ridge Wind Power LLC, The United Illuminating Company, UIL Distributed Resources, LLC.

Description: Updated Market Power Analysis for the Northeast Region of Avangrid Northeast MBR Sellers, et al.

Filed Date: 12/30/19.

Accession Number: 20191230-5276.

Comments Due: 5 p.m. ET 2/28/20.

Docket Numbers: ER10-3297-015.

Applicants: Powerex Corp.

Description: Updated Market Power Analysis for the Northwest Region of Powerex Corp.

Filed Date: 12/30/19.

Accession Number: 20191230-5274.

Comments Due: 5 p.m. ET 1/20/20.

Docket Numbers: ER17-2059-004; ER10-3097-009.

Applicants: Puget Sound Energy, Inc., Bruce Power Inc.

Description: Supplement to July 1, 2019 Updated Market Power Analysis in the Northwest Region for Puget Sound Energy, Inc., et al.

Filed Date: 12/19/19.

Accession Number: 20191219-5142.

Comments Due: 5 p.m. ET 1/9/20.

Docket Numbers: ER19-708-002.

Applicants: GSG, LLC.

Description: Compliance filing: Compliance Filing Under Docket ER19-708-002 to be effective 2/26/2019.

Filed Date: 12/31/19.

Accession Number: 20191231-5104.

Comments Due: 5 p.m. ET 1/21/20.

Docket Numbers: ER19-2901-001; ER15-2582-006; ER10-1851-011; ER10-1852-032; ER10-1930-011; ER10-1931-012; ER15-2101-007; ER19-2389-001; ER12-2226-010; ER12-2225-010; ER14-2138-007; ER10-1966-011; ER10-1976-011; ER19-11-003; ER10-1985-011; ER17-838-013; ER10-1951-017; ER11-4462-038; ER18-2091-003.

Applicants: Bronco Plains Wind, LLC, Carousel Wind Farm, LLC, ESI Vansycle Partners, L.P., Florida Power & Light Company, FPL Energy Stateline II, Inc., FPL Energy Vansycle, L.L.C, Golden West Power Partners, LLC, Grazing Yak Solar, LLC, Limon Wind, LLC, Limon Wind II, LLC, Limon Wind III, LLC, Logan Wind Energy LLC, Northern Colorado Wind Energy, LLC, Peetz Logan Interconnect, LLC, Peetz Table Wind Energy, LLC, NextEra Energy Marketing, LLC, NextEra Energy Services Massachusetts, LLC, NEPM II, LLC, Titan Solar, LLC.

Description: Updated Market Power Analysis for the Northwest Region of NextEra Companies, et al.

Filed Date: 12/30/19.

Accession Number: 20191230-5270I.

Comments Due: 5 p.m. ET 2/28/20.

Docket Numbers: ER20-391-001.

Applicants: J. Aron & Company LLC.

Description: Notice of Non-Material Change in Status of J. Aron & Company LLC.

Filed Date: 12/30/19.

Accession Number: 20191230-5275.

Comments Due: 5 p.m. ET 1/20/20.

Docket Numbers: ER20-720-000.

Applicants: Plum Creek Wind, LLC.

Description: Baseline eTariff Filing: Application for MBR Authority to be effective 3/1/2020.

Filed Date: 12/31/19.

Accession Number: 20191231-5090.

Comments Due: 5 p.m. ET 1/21/20.

Docket Numbers: ER20-721-000.

Applicants: Willow Creek Wind Power LLC.

Description: Baseline eTariff Filing: Application for MBR Authority to be effective 3/1/2020.

Filed Date: 12/31/19.

Accession Number: 20191231-5093.

Comments Due: 5 p.m. ET 1/21/20.

Docket Numbers: ER20-722-000.

Applicants: Baconton Power LLC.

Description: § 205(d) Rate Filing: Baconton Power LLC Revised MBR Tariff to be effective 12/21/2019.

Filed Date: 12/31/19.

Accession Number: 20191231-5106.

Comments Due: 5 p.m. ET 1/21/20.

Docket Numbers: ER20-723-000.

Applicants: The Narragansett Electric Company.

Description: § 205(d) Rate Filing: Narragansett Borderline Tariff Amendment filing to be effective 1/1/2020.

Filed Date: 12/31/19.

Accession Number: 20191231-5111.

Comments Due: 5 p.m. ET 1/21/20.

Docket Numbers: ER20-724-000.

Applicants: Duke Energy Carolinas, LLC.

Description: § 205(d) Rate Filing: DEC-EDIT Wholesale PPA (RS 315, RS 316, RS 317, RS 335) to be effective 1/1/2020.

Filed Date: 12/31/19.

Accession Number: 20191231-5115.

Comments Due: 5 p.m. ET 1/21/20.

Docket Numbers: ER20-725-000.

Applicants: California Independent System Operator Corporation.

Description: Compliance filing: 2019-12-31 Petition for Limited Tariff Waiver—Additional PDR EFC Waiver to be effective N/A.

Filed Date: 12/31/19.

Accession Number: 20191231-5179.

Comments Due: 5 p.m. ET 1/21/20.

Docket Numbers: ER20-726-000.

Applicants: Tri-State Generation and Transmission Association, Inc.

Description: Tariff Cancellation: Cancellation of Service Agreement No. 301 to be effective 3/23/2020.

Filed Date: 12/31/19.

Accession Number: 20191231-5228.

Comments Due: 5 p.m. ET 1/21/20.

Docket Numbers: ER20-727-000.

Applicants: Portland General Electric Company.

Description: § 205(d) Rate Filing: Amended NTTG Funding Agreement to be effective 1/1/2020.

Filed Date: 12/31/19.

Accession Number: 20191231-5242.

Comments Due: 5 p.m. ET 1/21/20.

Docket Numbers: ER20-728-000.

Applicants: Tri-State Generation and Transmission Association, Inc.

Description: Tariff Cancellation: Cancellation of Service Agreement Nos. 102 and 206 to be effective 3/23/2020.

Filed Date: 12/31/19.

Accession Number: 20191231-5245.

Comments Due: 5 p.m. ET 1/21/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 2, 2020.
Kimberly D. Bose,
Secretary.

[FR Doc. 2020-00088 Filed 1-7-20; 8:45 am]

BILLING CODE 6717-01-P